DEPARTMENT OF COMMERCE

National Oceanic and Atmospheric Administration

15 CFR Part 922

RIN 0648-BC94

Boundary Expansion of Thunder Bay National Marine Sanctuary; Notification of Effective Date

AGENCY: Office of National Marine Sanctuaries (ONMS), National Oceanic and Atmospheric Administration (NOAA), Department of Commerce (DOC).

ACTION: Notification of effective date.

SUMMARY: NOAA published a final rule to expand the boundary of Thunder Bay National Marine Sanctuary (TBNMS or sanctuary), clarify the correlation between TBNMS regulations and Indian tribal fishing activities, and revise the corresponding sanctuary terms of designation on September 5, 2014 (79 FR 52960). The new boundary for TBNMS increases the size of the sanctuary from 448 square miles to 4,300 square miles and extends protection to 47 additional known historic shipwrecks of national significance. Pursuant to Section 304(b) of the National Marine Sanctuaries Act (16 U.S.C. 1434(b)) the final regulations take effect after 45 days of continuous session of Congress beginning on September 5, 2014. Through this notification, NOAA is announcing the regulations became effective on February 3, 2015.

DATES: The regulations published on September 5, 2014 (79 FR 52960) are effective on February 3, 2015.

FOR FURTHER INFORMATION CONTACT: Jeff Gray, Thunder Bay National Marine Sanctuary Superintendent, at (989) 356-8805 ext 12.

Dated: February 24, 2015.
W. Russell Callender,
Acting Assistant Administrator for Ocean Services and Coastal Zone Management.

[FR Doc. 2015-05196 Filed 3-5-15; 8:45 am]

BILLING CODE 3510-NK-P